DEPARTMENT OF ENERGY

Federal Energy Regulatory Commission

Combined Notice of Filings #1

Take notice that the Commission received the following electric corporate filings:

Docket Numbers: EC25-147-000.

Applicants: Duke Energy Florida, LLC, Peninsula Power Holdings L.P.

Description: Joint Application for Authorization Under Section 203 of the Federal Power Act of Duke Energy Florida, LLC, et al.

Filed Date: 9/23/25.

Accession Number: 20250923-5152.

Comment Date: 5 p.m. ET 10/14/25.

Take notice that the Commission received the following exempt wholesale generator filings:

Docket Numbers: EG25-538-000.

Applicants: Green River Energy Center, LLC.

Description: Green River Energy Center, LLC submits Notice of Self-Certification of Exempt Wholesale Generator Status.

Filed Date: 9/24/25.

Accession Number: 20250924-5100.

Comment Date: 5 p.m. ET 10/15/25.

Docket Numbers: EG25-539-000.

Applicants: PVS 2, LLC.

Description: PVS 2, LLC submits Notice of Self-Certification of Exempt Wholesale Generator Status.

Filed Date: 9/24/25.

Accession Number: 20250924-5106.

Comment Date: 5 p.m. ET 10/15/25.

Take notice that the Commission received the following electric rate filings:

Docket Numbers: ER14-1594-003; ER14-1596-003.

Applicants: Lone Valley Solar Park II LLC, Lone Valley Solar Park I LLC.

Description: Supplement to 03/17/2021, Notice of Change in Status of Lone Valley Solar Park I LLC, et al.

Filed Date: 9/18/25.

Accession Number: 20250918-5181.

Comment Date: 5 p.m. ET 10/9/25.

Docket Numbers: ER15-734-003; ER16-2290-004.

Applicants: Spartan Renewable Energy, Inc., Wolverine Power Supply Cooperative, Inc.

Description: Updated Triennial Market Power Analysis for Central Region of Wolverine Power Supply Cooperative, Inc., et al.

Filed Date: 9/23/25.

Accession Number: 20250923-5158.

Comment Date: 5 p.m. ET 11/24/25.

Docket Numbers: ER20-547-005; ER20-2448-001; ER21-133-001; ER21-1962-002; ER21-736-002; ER16-498-005; ER16-499-005; ER16-500-005; ER14-41-006; ER14-42-006; ER12-1911-006; ER12-1912-006; ER12-1913-006; ER12-1915-006; ER12-1916-006; ER12-1917-006.

Applicants: RE McKenzie 6 LLC, RE McKenzie 5 LLC, RE McKenzie 4 LLC, RE McKenzie 3 LLC, RE McKenzie 2 LLC, RE McKenzie 1 LLC, RE Rosamond Two LLC, RE Rosamond One LLC, RE Mustang 4 LLC, RE Mustang 3 LLC, RE Mustang LLC, RE Slate 1 LLC, Mulberry BESS LLC, HDSI, LLC, American Kings Solar, LLC, Goldman Sachs Renewable Power Marketing LLC.

Description: Supplement to March 3, 2022 Notice of Non-Material Change in Status of Goldman Sachs Renewable Power Marketing LLC, et al.

Filed Date: 10/6/22.

Accession Number: 20221006-5180.

Comment Date: 5 p.m. ET 10/15/25.

Docket Numbers: ER25-2410-001.

Applicants: Green Grid Energy LLC.

Description: Report Filing: Supplemental Letter Notifying of Changes to the MBR Database to be effective N/A.

Filed Date: 9/19/25.

Accession Number: 20250919-5139.

Comment Date: 5 p.m. ET 10/10/25.

Docket Numbers: ER25-2682-000.

Applicants: FL Solar 8, LLC.

Description: Supplement to 06/27/2025, FL Solar 8, LLC tariff filing.

Filed Date: 9/19/25.

Accession Number: 20250919-5179.

Comment Date: 5 p.m. ET 9/24/25.

Docket Numbers: ER25-3070-001.

Applicants: Midcontinent Independent System Operator, Inc., Indianapolis Power & Light Company.

Description: Tariff Amendment: Indianapolis Power & Light Company submits tariff filing per 35.17(b): 2025-09-23_Amendment for IPL dba AES Transition to Forward Looking Formula Rate to be effective 12/1/2025.

Filed Date: 9/23/25.

Accession Number: 20250923-5146.

Comment Date: 5 p.m. ET 10/14/25.

Docket Numbers: ER25-3424-001.

Applicants: Duke Energy Progress, LLC, Duke Energy Carolinas, LLC.

Description: Tariff Amendment: Duke Energy Carolinas, LLC submits tariff filing per 35.17(b): Limited Amendment to Pending Revisions to Attachment C-1 to be effective 11/24/2025.

Filed Date: 9/24/25.

Accession Number: 20250924-5134.

Comment Date: 5 p.m. ET 10/15/25.

Docket Numbers: ER25-3493-000.

Applicants: American Electric Power Service Corporation.

Description: 205(d) Rate Filing: AEPSC submits FAs with Buckeye Power—SA No. 1336 to be effective 11/24/2025.

Filed Date: 9/24/25.

Accession Number: 20250924-5018.

Comment Date: 5 p.m. ET 10/15/25.

Docket Numbers: ER25-3494-000.

Applicants: PJM Interconnection, L.L.C.

Description: 205(d) Rate Filing: Amendment to ISA, SA No. 6922; AF1-158 to be effective 11/24/2025.

Filed Date: 9/24/25.

Accession Number: 20250924-5023.

Comment Date: 5 p.m. ET 10/15/25.

Docket Numbers: ER25-3495-000.

Applicants: PJM Interconnection, L.L.C.

Description: 205(d) Rate Filing: Amendment to ISA No. 6031 & ICSA No. 6032; Queue No. AB2-136 to be effective 11/24/2025.

Filed Date: 9/24/25.

Accession Number: 20250924-5027.

Comment Date: 5 p.m. ET 10/15/25.

Docket Numbers: ER25-3496-000.

Applicants: Southwest Power Pool, Inc.

Description: 205(d) Rate Filing: 1276R39 Evergy Metro NITSA NOA to be effective 9/1/2025.

Filed Date: 9/24/25.

Accession Number: 20250924-5029.

Comment Date: 5 p.m. ET 10/15/25.

Docket Numbers: ER25-3497-000.

Applicants: Southwest Power Pool, Inc.

Description: 205(d) Rate Filing: 3101R7 Heartland Consumers Power District NITSA and NOA to be effective 9/1/2025.

Filed Date: 9/24/25.

Accession Number: 20250924-5046.

Comment Date: 5 p.m. ET 10/15/25.

Docket Numbers: ER25-3498-000.

Applicants: MPH Cross Island Power, LLC.

Description: Initial Rate Filing: Application for Market-Based Rate Authorization and Request for Waivers to be effective 9/25/2025.

Filed Date: 9/24/25.

Accession Number: 20250924-5071.

Comment Date: 5 p.m. ET 10/15/25.

Docket Numbers: ER25-3499-000.

Applicants: PJM Interconnection, L.L.C.

Description: 205(d) Rate Filing: NSA, Original Service Agreement No. 7750; Queue No. AE2-029 to be effective 11/24/2025.

Filed Date: 9/24/25.

Accession Number: 20250924-5095.

Comment Date: 5 p.m. ET 10/15/25.

Docket Numbers: ER25-3500-000.

Applicants: Midcontinent Independent System Operator, Inc., Northern States Power Company, a Minnesota Corporation.

Description: 205(d) Rate Filing: Northern States Power Company, a Minnesota corporation submits tariff filing per 35.13(a)(2)(iii: 2025-09-24_SA 2420 NSPM-CapX Brookings Owners 2nd Rev T-T to be effective. 9/26/2025.

Filed Date: 9/24/25.

Accession Number: 20250924-5098.

Comment Date: 5 p.m. ET 10/15/25.

Docket Numbers: ER25-3501-000.

Applicants: PJM Interconnection, L.L.C.

Description: Tariff Amendment: Notice of Cancellation of UCSA SA No. 6946; MISO J1464 to be effective 11/24/2025.

Filed Date: 9/24/25.

Accession Number: 20250924-5108.

Comment Date: 5 p.m. ET 10/15/25.

Docket Numbers: ER25-3502-000.

Applicants: Milford Gen Lead, LLC.

Description: 205(d) Rate Filing: Amended and Restated Tenant in Common Agreement to be effective 9/25/2025.

Filed Date: 9/24/25.

Accession Number: 20250924-5110.

Comment Date: 5 p.m. ET 10/15/25.

Docket Numbers: ER25-3503-000.

Applicants: Milford Wind Corridor Phase I, LLC.

Description: 205(d) Rate Filing: Amended and Restated Tenant in Common Agreement to be effective 9/25/2025.

Filed Date: 9/24/25.

Accession Number: 20250924-5113.

Comment Date: 5 p.m. ET 10/15/25.

Docket Numbers: ER25-3504-000.

Applicants: Milford Wind Corridor Phase II, LLC.

Description: 205(d) Rate Filing: Amended and Restated Tenant in Common Agreement to be effective 9/25/2025.

Filed Date: 9/24/25.

Accession Number: 20250924-5117.

Comment Date: 5 p.m. ET 10/15/25.

Docket Numbers: ER25-3505-000.

Applicants: PJM Interconnection, L.L.C.

Description: Tariff Amendment: Notice of Cancellation of ICSA, SA No. 5634; AC2-088/AD1-136 re: cancellation to be effective 11/24/2025.

Filed Date: 9/24/25.

Accession Number: 20250924-5131.

Comment Date: 5 p.m. ET 10/15/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 24, 2025.
Carlos D. Clay,
Deputy Secretary.

[FR Doc. 2025-18834 Filed 9-26-25; 8:45 am]

BILLING CODE 6717-01-P